DEPARTMENT OF THE INTERIOR

Bureau of Reclamation

National Park Service

Notice To Solicit Comments and Hold Public Scoping Meetings on the Adoption of a Long-term Experimental and Management Plan for the Operation of Glen Canyon Dam

AGENCY: Bureau of Reclamation and National Park Service, Interior.

ACTION: Notice.

SUMMARY: The Department of the Interior (Department), through the Bureau of Reclamation and the National Park Service, provided notice on July 6, 2011, that the Department intends to prepare an environmental impact statement (EIS) and conduct public scoping meetings for the adoption of a Long-term Experimental and Management Plan (LTEMP) for the operation of Glen Canyon Dam. This Federal Register notice provides specific information on upcoming public scoping meetings and identifies the relevant comment period.

DATES: Comments on the scope of the EIS will be accepted until close of business on Friday, December 30, 2011.

Six public scoping meetings and one web-based meeting will be held to solicit public input on the scope of the environmental document, potential alternatives, and issues to be addressed in the EIS. See SUPPLEMENTARY INFORMATION section for meeting dates.

For specific information about the web-based meeting (date, time, etc.), please refer to the project Web site at: http://ltempeis.anl.gov.

ADDRESSES: You may submit comments by the following methods:

• Web site: http://ltempeis.anl.gov.

• Mail: Glen Canyon LTEMP EIS Scoping, Argonne National Laboratory, EVS/240, 9700 S. Cass Avenue, Argonne, Illinois 60439.

See SUPPLEMENTARY INFORMATION section for locations of public scoping meetings.

FOR FURTHER INFORMATION CONTACT: For further information and/or to have your name added to our mailing list, contact Beverley Heffernan, Bureau of Reclamation, Upper Colorado Region, Attention: UC-700, 125 South State Street, Salt Lake City, Utah 84138-1147; facsimile (801) 524-3826; or visit the Glen Canyon LTEMP EIS Web site at: http://ltempeis.anl.gov. Persons who use a telecommunications device for the deaf may call the Federal Information Relay Service (FIRS) at 1-800-877-8339 to contact the above individual during normal business hours. The FIRS is available 24 hours a day, 7 days a week, to leave a message or question with the above individual. You will receive a reply during normal business hours.

SUPPLEMENTARY INFORMATION: In a Federal Register notice published on July 6, 2011 (76 FR 39435), and pursuant to section 102(2)(C) of the National Environmental Policy Act (NEPA) of 1969, as amended, and 40 CFR 1508.22, the Department provided notice that it would prepare an EIS and conduct public scoping meetings for the adoption of an LTEMP for the operation of Glen Canyon Dam.

The purpose of the proposed LTEMP is to inform Departmental decisions and operate Glen Canyon Dam in such a manner as to improve and protect downstream resources in Glen Canyon National Recreation Area and Grand Canyon National Park while maintaining compliance with relevant laws, including the 1992 Grand Canyon Protection Act (GCPA), the Law of the River, and the Endangered Species Act (ESA). The LTEMP process is intended to develop and implement a structured, long-term experimental and management plan, to determine the need for potential future modifications to Glen Canyon Dam operations, and to determine whether to establish an ESA Recovery Implementation Program for endangered fish species below Glen Canyon Dam.

Revised dam operations and other actions under the jurisdiction of the Secretary of the Interior will be considered within alternatives of the EIS, in keeping with the scope of the GCPA. The NEPA process will document and evaluate impacts of the alternatives described in the EIS.

Scoping Information

Six public scoping meetings will be held to solicit comments on the scope of the LTEMP and the potential issues and alternatives that may be considered.

Each scoping meeting will include a welcome and project overview session (15 minutes) and opportunities for the public to view exhibits, informally discuss issues, and ask questions of technical experts and managers. Stations will be available for participants to provide electronic and written comments for the record. Comments should focus on the issues relevant to the proposed Federal action published in the July 6, 2011, Federal Register notice (76 FR 39435). To be most effectively considered, comments should be received no later than close of business on Friday, December 30, 2011. Those not desiring to submit comments during the scoping period, but who would like to receive a copy of the draft EIS (DEIS), may register their address at a public scoping meeting or on the project Web site at http://ltempeis.anl.gov. Public availability of the DEIS will be announced in the Federal Register, in the local news media, through direct contact with interested parties, and on the project Web site. Comments will be solicited on the DEIS at that time.

Dates and Addresses of Public Scoping Meetings

The scoping meeting dates and addresses are:

• Monday, November 7, 2011, 6 to 8 p.m., Sheraton Crescent Hotel, 2620 W. Dunlap Avenue, Phoenix, Arizona 85201.

• Tuesday, November 8, 2011, 6 to 8 p.m., Radisson Woodlands Hotel Flagstaff, 1175 W. Route 66, Flagstaff, Arizona 86001.

• Wednesday, November 9, 2011, 6 to 8 p.m., Courtyard Page at Lake Powell, 600 Clubhouse Drive, Page, Arizona 86040.

• Tuesday, November 15, 2011, 6 to 8 p.m., Hilton Salt Lake City Center, 255 South West Temple, Salt Lake City, Utah 84101.

• Wednesday, November 16, 2011, 6 to 8 p.m., Ramada Las Vegas, 325 East Flamingo Road, Las Vegas, Nevada 89169.

• Thursday, November 17, 2011, 6 to 8 p.m., Sheraton Denver West Hotel, 360 Union Boulevard, Lakewood, Colorado 80228.

Public Disclosure

Before including a name, address, telephone number, e-mail address, or other personal identifying information in the comment, please be advised that the entire comment—including personal identifying information—may be made publicly available at any time. While you can ask us in your comment to withhold your personal identifying information from public review, we cannot guarantee that we will be able to do so.

Dated: October 5, 2011.
Anne J. Castle,
Assistant Secretary—Water and Science.
Rachel Jacobson,
Acting Assistant Secretary—Fish and Wildlife and Parks.

[FR Doc. 2011-26651 Filed 10-14-11; 8:45 am]

BILLING CODE 4310-MN-P